INTERNATIONAL TRADE COMMISSION

[Investigation No. 731-TA-894 (Review)]

Certain Ammonium Nitrate From Ukraine

Determination

On the basis of the record ¹ developed in the subject five-year review, the United States International Trade Commission (Commission) determines, pursuant to section 751(c) of the Tariff Act of 1930 (19 U.S.C. 1675(c)), that revocation of the antidumping duty order on certain ammonium nitrate from Ukraine would be likely to lead to continuation or recurrence of material injury to an industry in the United States within a reasonably foreseeable time.

¹ The record is defined in sec. 207.2(f) of the Commission's Rules of Practice and Procedure (19 CFR 207.2(f)).

Background

The Commission instituted this review on June 1, 2012 (77 FR 32669) and determined on October 17, 2012 that it would conduct a full review (77 FR 65015, October 24, 2012). Notice of the scheduling of the Commission's review and of a public hearing to be held in connection therewith was given by posting copies of the notice in the Office of the Secretary, U.S. International Trade Commission, Washington, DC, and by publishing the notice in the Federal Register on October 24, 2012 (77 FR 65015).² The hearing was held in Washington, DC, on April 4, 2013, and all persons who requested the opportunity were permitted to appear in person or by counsel.

² The Commission published a revised schedule on December 11, 2012 (77 FR 73674).

The Commission transmitted its determination in this review to the Secretary of Commerce on May 24, 2013. The views of the Commission are contained in USITC Publication 4396 (May 2013), entitled Certain Ammonium Nitrate from Ukraine: Investigation No. 731-TA-894 (Second Review).

By order of the Commission.
Issued: May 24, 2013.
William R. Bishop,
Supervisory Hearings and Information Officer.

[FR Doc. 2013-12894 Filed 5-30-13; 8:45 am]

BILLING CODE 7020-02-P